DEPARTMENT OF COMMERCE

International Trade Administration

[C-122-815]

Pure Magnesium and Alloy Magnesium From Canada: Final Results of 2003 Countervailing Duty Administrative Reviews

AGENCY: Import Administration, International Trade Administration, Department of Commerce.

SUMMARY: On May 10, 2005, the Department of Commerce published in the Federal Register the preliminary results of the administrative reviews of the countervailing duty orders on pure magnesium and alloy magnesium from Canada for the period January 1, 2003, through December 31, 2003. We gave interested parties an opportunity to comment on the preliminary results.

Our analysis of the comments received on the preliminary results did not lead to any changes in the net subsidy rates. Therefore, the final results do not differ from the preliminary results. The final net subsidy rates for the reviewed companies are listed below in the section entitled “Final Results of Reviews.”

EFFECTIVE DATE: September 14, 2005.

FOR FURTHER INFORMATION CONTACT: Andrew McAllister, AD/CVD Operations, Office 1, Import Administration, U.S. Department of Commerce, 14th Street and Constitution Avenue, NW., Washington, DC 20230; telephone (202) 482-1174.

SUPPLEMENTARY INFORMATION:

Case History

On May 10, 2005, the Department of Commerce (“the Department”) published the preliminary results of these administrative reviews (see Pure Magnesium and Alloy Magnesium From Canada: Preliminary Results of Countervailing Duty Administrative Reviews, 70 FR 24530 (May 10, 2005) (“Preliminary Results”). Norsk Hydro Canada, Inc. (“NHCI”), Magnola Metallurgy Inc. (“Magnola”), the Government of Québec, and the Government of Canada submitted case briefs on June 9, 2005. On June 14, 2005, U.S. Magnesium, LLC (“the petitioner”) filed a rebuttal brief.

Scope of the Orders

The products covered by these orders are shipments of pure and alloy magnesium from Canada. Pure magnesium contains at least 99.8 percent magnesium by weight and is sold in various slab and ingot forms and sizes. Magnesium alloys contain less than 99.8 percent magnesium by weight with magnesium being the largest metallic element in the alloy by weight, and are sold in various ingot and billet forms and sizes.

The pure and alloy magnesium subject to the orders is currently classifiable under items 8104.11.0000 and 8104.19.0000, respectively, of the Harmonized Tariff Schedule of the United States (“HTSUS”). Although the HTSUS subheadings are provided for convenience and customs purposes, the written descriptions of the merchandise subject to the orders are dispositive.

Secondary and granular magnesium are not included in the scope of these orders. Our reasons for excluding granular magnesium are summarized in Preliminary Determination of Sales at Less Than Fair Value: Pure and Alloy Magnesium From Canada, 57 FR 6094 (February 20, 1992).

Period of Reviews

The period for which we are measuring subsidies, or POR, is January 1, 2003, through December 31, 2003.

Analysis of Comments Received

All issues raised in the case and rebuttal briefs by parties to these administrative reviews are addressed in the September 7, 2005, Issues and Decision Memorandum for the 2003 Countervailing Duty Administrative Reviews of Pure Magnesium and Alloy Magnesium from Canada (“Decision Memorandum”) to Joseph Spetrini, Acting Assistant Secretary for Import Administration, which is hereby adopted by this notice. Attached to this notice as an appendix is a list of the issues which parties have raised and to which we have responded in the Decision Memorandum. Parties can find a complete discussion of all issues raised in these reviews and the corresponding recommendations in this public memorandum, which is on file in the Department's Central Records Unit, Room B-099 of the main Department building (“CRU”). In addition, a complete version of the Decision Memorandum can be accessed directly on the Internet at http://ia.ita.doc.gov/frn/index.html. The paper copy and electronic version of the Decision Memorandum are identical in content.

Changes Since the Preliminary Results

Based on our analysis of the record and comments received, we have made no changes to the preliminary results net subsidy rates.

Final Results of Reviews

In accordance with 19 CFR 351.221(b)(5), we calculated an individual subsidy rate for each producer/exporter subject to these reviews. For the period January 1, 2003, through December 31, 2003, we determine the net subsidy rates for the reviewed companies to be as follows:

Manufacturer/exporter | Percent
Net Subsidy Rate: Pure Magnesium
Norsk Hydro Canada, Inc. | 1.21
Net Subsidy Rate: Alloy Magnesium
Norsk Hydro Canada, Inc. | 1.21
Magnola Metallurgy, Inc. | 5.40

Assessment Rates

Pursuant to 19 U.S.C. § 1516a(g)(5)(c)(i), the Department will not order the liquidation of entries of pure magnesium or alloy magnesium from Canada exported by NHCI or Magnola on or after January 1, 2003, through December 31, 2003, pending final disposition of a dispute settlement proceeding under NAFTA (USA-CDA-00-1904-09 (panel)) with respect to Pure and Alloy Magnesium From Canada; Final Results of Full Sunset Review, 65 FR 41436 (July 5, 2000). Liquidation of NHCI and Magnola entries will occur at the rates described in these final results of reviews, if appropriate, following the final disposition of the previously mentioned NAFTA dispute settlement proceedings.

Cash Deposit Instructions

The Department will instruct U.S. Customs and Border Protection (“CBP”) to collect cash deposits of estimated countervailing duties in the percentages detailed above of the f.o.b. invoice value on all shipments of the subject merchandise from NHCI and Magnola entered, or withdrawn from warehouse, for consumption on or after the date of publication of the final results of these administrative reviews.

We will instruct CBP to continue to collect cash deposits for non-reviewed companies at the most recent company-specific or country-wide rate applicable to the company (except Timminco Limited, which was excluded from the countervailing duty orders on pure magnesium and alloy magnesium from Canada (See Countervailing Duty Orders: Pure Magnesium and Alloy Magnesium from Canada, 57 FR 39392 (August 31, 1992)). Accordingly, the country-wide cash deposit rate that will be applied to non-reviewed companies covered by the orders is that established in Pure and Alloy Magnesium From Canada: Final Results of the Second (1993) Countervailing Duty Administrative Reviews, 62 FR 48607 (September 16, 1997) or the company-specific rate published in the most recent final results of an administrative review in which a company participated. These rates shall apply to all non-reviewed companies until a review of a company assigned these rates is requested.

This notice serves as a reminder to parties subject to administrative protective order (“APO”) of their responsibility concerning the disposition of proprietary information disclosed under APO in accordance with 19 CFR 351.305(a)(3). Timely written notification of return/destruction of APO materials or conversion to judicial protective order is hereby requested. Failure to comply with the regulations and the terms of an APO is a sanctionable violation.

These administrative reviews and notice are in accordance with section 751(a)(1) of the Act.

Dated: September 7, 2005.
Joseph A. Spetrini,
Acting Assistant Secretary for Import Administration.

Appendix I

Comments in the Issues and Decision Memorandum

Comment 1: Issuance of Liquidations Instructions at the Final Results for NHCI

Comment 2: NHCI's Cash Deposit Rate

Comment 3: Adjustment of NHCI's CVD Rate

Comment 4: MTM Program Benefits for Magnola

Comment 5: Magnola's Discount Rate

[FR Doc. E5-5018 Filed 9-13-05; 8:45 am]

BILLING CODE 3510-DS-P